DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is to inform the public the Substance Abuse and Mental Health Services Administration (SAMHSA) is supporting a supplement (in scope of the parent award) for the grant recipient funded in FY 2020 under the Homeless and Housing Resource Center (HHRC) Notice of Funding Opportunity (NOFO) SM-20-009. The recipient may receive up to $498,500 in supplemental funds. The recipient has a project end date of August 30, 2024. The supplemental funding will be used to address substance use and/or mental disorders associated with service access and delivery and systems needs related to unsheltered and rural homelessness.

FOR FURTHER INFORMATION CONTACT: Michelle E. Daly, M.S.W., Lead Public Health Advisor, Substance Abuse and Mental Health Services Administration, 5600 Fishers Lane, Rockville, MD 20857, telephone 240-276-2789; email: Michelle.Daly@samhsa.hhs.gov.

SUPPLEMENTARY INFORMATION:

Funding Opportunity Title: FY 2020 Homeless and Housing Resource Center (HHRC) Grant SM-20-009.

Assistance Listing Number: 93.243.

Authority: Section 520 of the Public Health Services Act as amended.

Justification: Eligibility for this supplemental funding is limited to Policy Research, Inc., which was funded in FY 2020 under the Homeless and Housing Resource Center (HHRC—SM-20-009) grant program. The recipient has special expertise in providing training and technical assistance to support federal, state, and local efforts on strategic planning, capacity development, financing, and delivering substance use and/or mental disorders evidence-based practices to improve systems coordination.

This is not a formal request for application. Assistance will only be provided to the HHRC grant recipient funded in FY 2020 based on the receipt of a satisfactory application and associated budget that is approved by a review group.

Dated: May 24, 2023.
Ann Ferrero,
Public Health Analyst.

[FR Doc. 2023-11461 Filed 5-30-23; 8:45 am]

BILLING CODE 4162-20-P